DEPARTMENT OF TRANSPORTATION

Federal Aviation Administration

Notice of Proposed Release and Closure of Michael Airfield, Cicero, NY From Its Grant Assurance Obligations, Request for Comments

AGENCY: Federal Aviation Administration (FAA), DOT.

ACTION: Notice and request for comments.

SUMMARY: The Federal Aviation Administration is requesting public comment on Michael Airfield (1G6), Cicero, New York notice of proposed closure and release from aeronautical use of the entire airport. The airport consists of approximately 34.19 acres of airport property, including runway 10-28, taxiways, aprons, airside and landside facilities to allow for possible non-aeronautical development. It has been determined, by closing Michael Airfield, the flying public would best benefit from using Syracuse Suburban Airport (6NK), Syracuse, New York. The sponsor who owns and operates both Michael Airfield and Syracuse Suburban Airport, plans to close 1G6 airport and dispose of the property. Michael Airfield, a privately owned public use reliever airport last accepted an airport capital development grant in 1991 for a runway rehabilitation project, thus, not obligated under the 1996 revenue use policy. The revenue generated from the sale of the closed airport would not be reinvested into 6NK. Proposals from the sponsor determined that land constituting Michael Airfield has no aeronautical use and should be closed. Documents reflecting the sponsor's request are available, by appointment only, for inspection at the Airport Sponsor's office and the FAA Airports District Office.

DATES: Comments must be received by July 29, 2009.

ADDRESSES: Comments on this application may be mailed or delivered to the FAA at the following address: Steven M. Urlass, Manager, FAA New York Airports District Office, 600 Old Country Road, Suite 446, Garden City, New York 11530. In addition, a copy of any comments submitted to the FAA must be mailed or delivered to Mr. David Pizio, Member, Gildner Road Associates, LLC, at the following address: 2063 Jamesville Terrace, Jamesville, New York 13078.

FOR FURTHER INFORMATION CONTACT: Steven M. Urlass, Manager, New York Airports District Office, 600 Old Country Road, Suite 446, Garden City, New York 11530; telephone (516) 227-3803; FAX (516) 227-3813; e-mail steve.urlass@faa.gov.

SUPPLEMENTARY INFORMATION: Section 125 of the Wendell H. Ford Aviation Investment and Reform Act for the 1st Century (AIR21) requires the FAA to provide an opportunity for public notice and comment before the Secretary may waive a sponsor's Federal obligation to use certain airport land for aeronautical use.

Issued in Garden City, New York on June 22, 2009.
Steven M. Urlass,
Manager, New York Airports District Office, Eastern Region.

[FR Doc. E9-15317 Filed 6-26-09; 8:45 am]

BILLING CODE P